INTERNATIONAL TRADE COMMISSION

[Investigation No. AA1921-167 (Third Review)]

Pressure Sensitive Plastic Tape From Italy

AGENCY: United States International Trade Commission.

ACTION: Revised schedule for the subject review.

DATES: Effective Date: February 16, 2010.

FOR FURTHER INFORMATION CONTACT: Edward Petronzio (202-205-3176), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On August 20, 2009, the Commission established a schedule for the conduct of the review (74 FR 43155, August 26, 2009). Due to the closure of the Federal Government for four days as a result of inclement weather and related disruptions, the Commission is issuing a revised schedule.

The Commission's new schedule for the review is as follows: the closing of the record and final release of data to parties will be February 18, 2010, and final comments of parties will be due on February 22, 2010.

For further information concerning the review see the Commission's notice cited above and the Commission's Rules of Practice and Procedure, part 201, subparts A through E (19 CFR part 201), and part 207, subparts A and C (19 CFR part 207).

Authority: The review is being conducted under authority of title VII of the Tariff Act of 1930; this notice is published pursuant to section 207.21 of the Commission's rules.

By order of the Commission.
Issued: February 16, 2010.
Marilyn R. Abbott,
Secretary to the Commission.

[FR Doc. 2010-3423 Filed 2-22-10; 8:45 am]

BILLING CODE P